DEPARTMENT OF TRANSPORTATION

Federal Aviation Administration

14 CFR Part 71

[Docket FAA 2004-18915; Airspace Docket 04-ANM-11]

Revision of Class E Airspace; Burns, OR

AGENCY: Federal Aviation Administration (FAA), DOT.

ACTION: Final rule.

SUMMARY: This final rule will revise Class E airspace at Burns, OR. This additional Class E airspace is necessary to accommodate the new Area Navigation (RNAV) Global Positioning System (GPS) Standard Instrument Approach Procedure (SIAP) at Burns Municipal Airport. This change will improve the safety of Instrument Flight Rules (IFR) aircraft executing the new RNAV GPS SIAP at Burns Municipal Airport, Burns, OR. A minor correction also is being made in the geographic position coordinates of the Burns Municipal Airport.

DATES: Effective Date: 0901 UTC, July 07, 2005.

FOR FURTHER INFORMATION CONTACT: Ed Haeseker, Federal Aviation Administration, Western En Route and Oceanic Area Office, Airspace Branch, 1601 Lind Avenue SW., Renton, WA, 98055-4056; telephone (425) 227-2527.

SUPPLEMENTARY INFORMATION:

History

On December 17, 2004, the FAA proposed to amend Title 14 Code of Federal Regulations part 71 (CFR part 71) by modifying Class E airspace at Burns, OR, (69 FR 75490). The proposed action would provide additional controlled airspace to accommodate the new RNAV GPS SIAP at the Burns Municipal Airport. Interested parties were invited to participate in this rule making proceeding by submitting written comments on the proposal to the FAA. No comments were received. Class E airspace designations are published in paragraph 6005 of FAA Order 7400.9M dated August 30, 2004, and effective September 16, 2004, which is incorporated by reference in 14 CFR part 71.1. The Class E airspace designations listed in this document will be published subsequently in that order.

The Rule

This amendment to 14 CFR part 71 revises Class E airspace at Burns, OR, by providing additional controlled airspace for aircraft executing the new RNAV GPS SIAP at Burns Municipal Airport. This additional controlled airspace extending upward from 700 feet or more above the surface of the earth is necessary for the containment and safety of IFR aircraft executing this SIAP procedure and transitioning to/from the en route environment.

The FAA has determined that this regulation only involves an established body of technical regulations for which frequent and routine amendments are necessary to keep the regulations current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS.

1. The authority citation for 14 CFR part 71 continues to read as follows:

Authority: 49 U.S.C. 106(g), 40103, 40113, 40120; E.O. 10854, 24 FR 9565, 3 CFR, 1959-1963 Comp., p. 389.

§ 71.1 [Amended]

2. The Incorporation by reference in 14 CFR part 71.1 of the Federal Aviation Administration Order 7400.9M, Airspace Designations and Reporting Points, dated August 30, 2004, and effective September 16, 2004, is amended as follows:

Paragraph 6005 Class E airspace areas extending upward from 700 feet or more above the surface of the earth.

* * * * *

ANM OR E5 Burns, OR [Revised]

Burns Municipal Airport, Burns, OR

(Lat. 43°35′31″ N., long. 118°57′20″ W.)

Wildhorse VOR/DME

(Lat. 43°35′35″ N., long. 118°57′18″ W.)

That airspace extending upward from 700 feet above the surface of the earth within 10.9 miles northeast and 10.1 miles southwest of the 141° and 321° radials of the Wildhorse VOR/DME extending from 9.6 miles southeast to 9.2 miles northwest of the VOR/DME; that airspace extending upward from 1,200 feet above the surface of the earth within 10.9 miles northeast and 16.0 miles southwest of the 141° and 321° radials of the Wildhorse VOR/DME extending from 20.1 miles southeast to 9.2 miles northwest of the VOR/DME;

* * * * *

Issued in Seattle, Washington, on April 1, 2005.
Raul C. Treviño
Area Director, Western en Route and Oceanic Operations.

[FR Doc. 05-7622 Filed 4-15-05; 8:45 am]

BILLING CODE 4910-13-M